DEPARTMENT OF DEFENSE

Office of the Secretary

Charter Establishment of Department of Defense Federal Advisory Committees

AGENCY: Department of Defense.

ACTION: Establishment of Federal advisory committee.

SUMMARY: The Department of Defense is publishing this notice to announce that it is establishing the charter for the Lake Eufaula Advisory Committee (“the Committee”).

FOR FURTHER INFORMATION CONTACT: Jim Freeman, Advisory Committee Management Officer for the Department of Defense, 703-692-5952.

SUPPLEMENTARY INFORMATION: This committee's charter is being established in accordance with the Federal Advisory Committee Act (FACA) of 1972 (5 U.S.C., Appendix, as amended) and 41 CFR 102-3.50(a).

The Committee is a statutory Federal advisory committee that provides information and recommendations to the Secretary of Defense through the Secretary of the Army, the Assistant Secretary of the Army for Civil Works, and the U.S. Army Corps of Engineers (“the Corps”), regarding the operations of Lake Eufaula for the project purposes for Lake Eufaula.

According to section 3133(a) of the 2007 WRDA, the Lake Eufaula project goal is to maximize the use of available storage in a balanced approach that incorporates advice from representatives from all the project purposes to ensure that the full value of the reservoir is realized by the United States. To achieve this goal, recreation is recognized as a project purpose at Lake Eufaula, pursuant to section 4 of the Flood Control Act of December 22, 1944 (58 Stat. 889). The recommendations of the Committee shall be considered by the Secretary of the Army and the Corp in performing a reallocation study and developing an interim management plan as required by sections 3133(c) and (d) of the 2007 WRDA. The Department of Defense (DoD), through the Department of the Army and the Corps, shall provide support for the Committee and shall ensure compliance with the requirements of the FACA, the Government in the Sunshine Act of 1976 (“the Sunshine Act”) (5 U.S.C. 552b, as amended), governing Federal statutes and regulations, and established DoD policies and procedures.

Pursuant to section 3133(b) of the 2007 WRDA, the Committee shall be composed of members that equally represent the project purposes for Lake Eufaula, identified as flood control, water supply, hydroelectric power, navigation, fish and wildlife, and recreation. The Committee shall consist of no more than 12 members. Committee members will serve a two-year term of service, with annual renewals, on the Committee. Members may be appointed to no more than two terms of service (four years total) without prior approval of the Secretary of Defense or Deputy Secretary of Defense. Members may subsequently be reappointed to the Committee but only after being off the Committee for at least two years.

The Committee will be comprised of a mix of regular government employee (RGE) members, special government employee (SGE) members, and representative members. Those individuals who are full-time or permanent part-time Federal officers or employees will be appointed pursuant to 41 CFR 102-3.130(a) to serve as RGE members. Those individuals who are not full-time or permanent part-time Federal officers or employees and provide their own best independent judgment based on their individual expertise will be appointed as experts or consultants pursuant to 5 U.S.C. 3109 to serve as SGE members. Those individuals who are not full-time or permanent part-time Federal officers or employees and are selected for the purpose of obtaining the point of view or perspective of an outside interest group or stakeholder interest will be appointed pursuant to 41 CFR 102-3.130(a) to serve as representative members.

The Secretary of the Army will appoint the Chair and the Vice Chair of the Committee and the leadership for any approved subcommittees from the respective Committee and subcommittee membership previously approved by the Secretary of Defense or Deputy Secretary of Defense.

With the exception of reimbursement for official travel and per diem, Committee members shall serve without compensation.

The DoD, when necessary and consistent with the Committee's mission and DoD policies and procedures, may establish subcommittees, task groups, or working groups to support the Committee. Establishment of subcommittees will be based upon a written determination, to include terms of reference, by the Secretary of Defense, the Deputy Secretary of Defense, or the Secretary of the Army. Currently, the Committee does not use subcommittees. If the DoD determines that the establishment of subcommittees is warranted, the Committee's charter and membership balance plan must be amended prior to such establishment.

The Designated Federal Officer (DFO) shall be a full-time or permanent part-time DoD officer or employee designated in accordance with governing DoD policies and procedures.

The Committee's DFO is required to be in attendance at all meetings of the Committee and any subcommittees for the entire duration of each and every meeting. However, in the absence of the Committee's DFO, a properly approved Alternate DFO, duly designated to the Committee according to DoD policies and procedures, shall attend the entire duration of the meetings of the Committee or any subcommittees.

The DFO, or the Alternate DFO, shall call all meetings of the Committees and any subcommittees; prepare and approve all meeting agendas; and adjourn any meeting when the DFO, or the Alternate DFO, determines adjournment to be in the public's interest or required by governing regulations or DoD policies and procedures.

Pursuant to 41 CFR 102-3.105(j) and 102-3.140, the public or interested organizations may submit written statements to Committee membership about the Committee's mission and functions. Written statements may be submitted at any time or in response to the stated agenda of planned meeting of the Committee.

All written statements shall be submitted to the DFO for the Committee, and this individual will ensure that the written statements are provided to the membership for their consideration. Contact information for the Committee's DFO can be obtained from the GSA's FACA Database— http://www.facadatabase.gov/.

The DFO, pursuant to 41 CFR 102-3.150, will announce planned meetings of the Committee. The DFO, at that time, may provide additional guidance on the submission of written statements that are in response to the stated agenda for the planned meeting in question.

Dated: September 8, 2015.
Aaron Siegel,
Alternate OSD Federal Register Liaison Officer, Department of Defense.

[FR Doc. 2015-22966 Filed 9-11-15; 8:45 am]

BILLING CODE 5001-06-P